DEPARTMENT OF AGRICULTURE

Animal and Plant Health Inspection Service

[Docket No. 02-034-1]

Availability of a Supplemental Environmental Assessment

AGENCY: Animal and Plant Health Inspection Service, USDA.

ACTION: Notice of availability and request for comments.

SUMMARY: We are advising the public that a supplemental environmental assessment has been prepared by the Animal and Plant Health Inspection Service relative to the control of pink hibiscus mealybug, Maconellicoccus hirsutus. The supplemental environmental assessment considers the effects of, and alternatives to, the release of nonindigenous organisms into the environment for use as biological control agents to suppress pink hibiscus mealybug infestations. We are making this environmental assessment available to the public for review and comment.

DATES: We will consider all comments we receive that are postmarked, delivered, or e-mailed by June 3, 2002.

ADDRESSES: You may submit comments by postal mail/commercial delivery or by e-mail. If you use postal mail/commercial delivery, please send four copies of your comment (an original and three copies) to: Docket No. 02-034-1, Regulatory Analysis and Development, PPD, APHIS, Station 3C71, 4700 River Road Unit 118, Riverdale, MD 20737-1238. Please state that your comment refers to Docket No. 02-034-1. If you use e-mail, address your comment to regulations@aphis.usda.gov. Your comment must be contained in the body of your message; do not send attached files. Please include your name and address in your message and “Docket No. 02-034-1” on the subject line.

You may read any comments that we receive on the supplemental environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis,usda.gov/ppd/rad/webrepor.html.

FOR FURTHER INFORMATION CONTACT: Dr. Dale Meyerdirk, Agriculturist, PPQ, APHIS, 4700 River Road Unit 135, Riverdale, MD 20737-1236; (301) 734-5220.

SUPPLEMENTARY INFORMATION:

Background

The Animal and Plant Health Inspection Service (APHIS) is proposing to release nonindigenous species of parasitic wasps in the genus Allotropa (Hymenoptera: Platygasteridae) in the continental United States and U.S. territories in the Caribbean to control pink hibiscus mealybug, Maconellicoccus hirsutus.

Pink hibiscus mealybug (PHM) is a foreign plant pest that attacks a wide variety of agricultural and ornamental plant hosts. It has invaded areas in Guam, Hawaii, California, the U.S. Virgin Islands, and Puerto Rico, and it is expected that PHM will invade the southern regions of the United States. The purpose of the proposed release is to suppress PHM infestations.

APHIS' current PHM control program involves the release of three other varieties of parasitic wasps. On June 24, 1997, we published a notice in the Federal Register (62 FR 34043-34044, Docket No. 97-054-1) in which we announced the availability of an environmental assessment describing the impact and plant pest risk associated with releasing exotic species of parasitic wasps in the genera Anagyrus and Gyranusoidea (Hymenoptera: Encyrtidae) into the environment to control PHM. Similarly, on November 12, 1997, we published a notice in the Federal Register (62 FR 60683, Docket No. 97-106-1) in which we announced the availability of an environmental assessment describing the environmental impact and plant pest risk associated with releasing exotic species of parasitic wasps in the genus Leptomastix (Hymenoptera: Encyrtidae) into the environment to control PHM.

APHIS has completed a supplemental environmental assessment that considers the effects of, and alternatives to, releasing parasitic wasps in a fourth genus, Allotropa (Hymenoptera: Platygasteridae), into the environment. Mealybugs are the only known hosts of the species of Allotropa (except for a suspect report a century ago) that are candidates for introduction in the United States. There is no evidence that the release of this biological control agent will adversely affect threatened and endangered species or their habitat. The biological characteristics of wasps in the genus Allotropa preclude any possibility of harmful effects on human health.

APHIS' review and analysis of the potential environmental impacts associated with releasing this biological control agent into the environment are documented in detail in a supplemental environmental assessment entitled “Control of Pink Hibiscus Mealybug, Maconellicoccus hirsutus (Homoptera: Pseudococcidae)” (February 2002). We are making this environmental assessment available to the public for review and comment. We will consider all comments that we receive by the date listed under the heading DATES at the beginning of this notice.

You may request copies of the supplemental environmental assessment by calling or writing to the person listed under FOR FURTHER INFORMATION CONTACT. Please refer to the title of the supplemental environmental assessment when requesting copies. The supplemental environmental assessment is also available for review in our reading room (information on the location and hours of the reading room is listed under the heading ADDRESSES at the beginning of this notice.)

The supplemental environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 26th day of April, 2002 .
W. Ron DeHaven,
Acting Administrator, Animal and Plant Health Inspection Service.

[FR Doc. 02-10883 Filed 5-1-02; 8:45 am]

BILLING CODE 3410-34-P